DEPARTMENT OF HEALTH AND HUMAN SERVICES

National Institutes of Health

Submission for OMB Review; Comment Request (30-day): National Institute of Nursing Research (NINR) Summer Genetics Institute Alumni Survey

SUMMARY: Under the provisions of Section 3507(a)(1)(D) of the Paperwork Reduction Act of 1995, the National Institutes of Health (NIH) has submitted to the Office of Management and Budget (OMB) a request for review and approval of the information collection listed below. This information collection was previously published in the Federal Register on June 29, 2012, page 38840 and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact: Dr. Amanda Greene, Office of Science Policy and Public Liaison, NINR, NIH, Democracy One, 6701 Democracy Blvd., Suite 700, Bethesda, MD 20892 or call non-toll-free number (301) 496-9601 or Email your request, including your address to: amanda.greene@nih.gov.

Comments regarding this information collection are best assured of having their full effect if received within 30-days of the date of this publication.

Proposed Collection: National Institute of Nursing Research (NINR) Summer Genetics Institute Alumni Survey, -0925-New

Need and Use of Information Collection: The NINR Summer Genetics Institute Alumni Survey will obtain information on the long-term outcomes of the NINR Summer Genetics Institute training program for nurse scientists and faculty. Target participants are alumni of this training institute which began in 2000. The survey inquires about career activities, including research, clinical, teaching and educational activities, since completion of the NINR Summer Genetics Institute. This is a 39-item survey that takes an average of 30 minutes to complete. The findings will provide valuable information on the influence of the Institute in developing genetics research capability among Institute alumni, and development and expansion of clinical practice in genetics among alumni who are nurse clinicians.

OMB approval is requested for 3 years. There are no costs to respondents other than their time. The total estimated annualized burden hours are 75.

Estimated Annualized Burden Hours
Type of respondent | Number of respondents | Frequency of response | Average time per response (in hours) | Total burden hours
Researchers | 150 | 1 | 30/60 | 75

Dated: November 2, 2012.
Amanda Greene,
Project Clearance Liaison, NINR, National Institutes of Health.

[FR Doc. 2012-27578 Filed 11-14-12; 8:45 am]

BILLING CODE 4140-01-P